DEPARTMENT OF ENERGY

Federal Energy Regulatory Commission

Combined Notice of Filings #1

Take notice that the Commission received the following electric corporate filings:

Docket Numbers: EC13-8-000.

Applicants: Pocahontas Prairie Wind, LLC.

Description: Application for Authorization for Disposition of Jurisdictional Facilities and Request for Expedited Consideration of Pocahontas Prairie Wind, LLC.

Filed Date: 10/9/12.

Accession Number: 20121009-5391.

Comments Due: 5 p.m. ET 10/30/12.

Docket Numbers: EC13-9-000.

Applicants: Homer City Generation, L.P., Edison Mission Marketing & Trading, Inc., EME HOMER CITY GENERATION LP.

Description: Joint Application of Homer City Generation, L.P., et al. for Authorization of Disposition of Facilities and Request for Expedited Consideration and Waivers.

Filed Date: 10/9/12.

Accession Number: 20121009-5426.

Comments Due: 5 p.m. ET 10/30/12.

Take notice that the Commission received the following exempt wholesale generator filings:

Docket Numbers: EG13-3-000.

Applicants: GE Energy Financial Services.

Description: Notice of Self-Certification as Exempt Wholesale Generator by Homer City Generation, L.P.

Filed Date: 10/9/12.

Accession Number: 20121009-5356.

Comments Due: 5 p.m. ET 10/30/12.

Take notice that the Commission received the following electric rate filings:

Docket Numbers: ER12-1868-001.

Applicants: New York Independent System Operator, Inc.

Description: NYISO Compliance Filing of TCC Tariff Revisions to Establish Effective Date to be effective 10/24/2012.

Filed Date: 10/9/12.

Accession Number: 20121009-5345.

Comments Due: 5 p.m. ET 10/30/12.

Docket Numbers: ER12-1932-002.

Applicants: Franklin County Wind, LLC.

Description: FCW Market-Based Rate Tariff—Second Revision to be effective 8/1/2012.

Filed Date: 10/9/12.

Accession Number: 20121009-5294.

Comments Due: 5 p.m. ET 10/30/12.

Docket Numbers: ER12-1933-003.

Applicants: Interstate Power and Light Company.

Description: IPL Market-Based Rate Tariff—Second Revision to be effective 8/1/2012.

Filed Date: 10/9/12.

Accession Number: 20121009-5296.

Comments Due: 5 p.m. ET 10/30/12.

Docket Numbers: ER12-1934-002.

Applicants: Wisconsin Power and Light Company.

Description: WPL Market-Based Rate Tariff—Second Revision to be effective 8/1/2012.

Filed Date: 10/9/12.

Accession Number: 20121009-5302.

Comments Due: 5 p.m. ET 10/30/12.

Docket Numbers: ER13-52-000.

Applicants: PJM Interconnection, L.L.C.

Description: Queue Position R33; Original Service Agreement No. 3395 to be effective 9/6/2012.

Filed Date: 10/9/12.

Accession Number: 20121009-5277.

Comments Due: 5 p.m. ET 10/30/12.

Docket Numbers: ER13-53-000.

Applicants: PJM Interconnection, L.L.C.

Description: Queue Position X3-029; Original Service Agreement Nos. 3400 to be effective 9/6/2012.

Filed Date: 10/9/12.

Accession Number: 20121009-5327.

Comments Due: 5 p.m. ET 10/30/12.

Docket Numbers: ER13-54-000.

Applicants: Pacific Gas and Electric Company.

Description: PWRPA 4th Amendment to Appendix B to IA and WDT Service Agreement to be effective 10/10/2012.

Filed Date: 10/9/12.

Accession Number: 20121009-5351.

Comments Due: 5 p.m. ET 10/30/12.

Docket Numbers: ER13-55-000.

Applicants: Homer City Generation, L.P.

Description: Homer City Generation, L.P. Application for Market-Based Rate Tariff to be effective 10/9/2012.

Filed Date: 10/9/12.

Accession Number: 20121009-5358.

Comments Due: 5 p.m. ET 10/30/12.

Docket Numbers: ER13-56-000.

Applicants: Westar Energy, Inc.

Description: Missouri Joint Municipal Electric Utility Commission Tariff Revision to be effective 12/10/2012.

Filed Date: 10/9/12.

Accession Number: 20121009-5364.

Comments Due: 5 p.m. ET 10/30/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2012.
Nathaniel J. Davis, Sr.,
Deputy Secretary.

[FR Doc. 2012-25531 Filed 10-16-12; 8:45 am]

BILLING CODE 6717-01-P